ENVIRONMENTAL PROTECTION AGENCY

40 CFR Part 63

[FRL-7083-6]

RIN 2050-AE89

NESHAP: Standards for Hazardous Air Pollutants for Hazardous Waste Combustors

AGENCY: Environmental Protection Agency (EPA).

ACTION: Partial withdrawal of direct final rule.

SUMMARY: On July 3, 2001, EPA promulgated amendments to the regulations for hazardous waste burning cement kilns, lightweight aggregate kilns, and incinerators promulgated on September 30, 1999 (NESHAP: Final Standards for Hazardous Air Pollutants for Hazardous Waste Combustors). 66 FR 35087. EPA promulgated these amendments as direct final rules, with an accompanying proposed rule to supplant these rules in the event EPA received any adverse comment on the amendments. 66 FR 35124. Because we received adverse comments on some of the provisions, we are withdrawing the corresponding parts of that direct final rule.

DATES: As of October 15, 2001, EPA withdraws the amendments to § 63.1206(b)(6)(i), § 63.1206(b)(7)(i)(B), § 63.1206(b)(7)(ii)(B), § 63.1206(b)(13)(i), § 63.1206(c)(7)(ii), § 63.1207(c)(2)(i), § 63.1207(f)(1)(ii), and to add the definition of “Preheater tower combustion gas monitoring location” to § 63.1201(a) published at 66 FR 35087 on July 3, 2001.

FOR FURTHER INFORMATION CONTACT: For general information, call the RCRA Call Center at 1-800-424-9346 or TDD 1-800-553-7672 (hearing impaired). Callers within the Washington Metropolitan Area must dial 703-412-9810 or TDD 703-412-3323 (hearing impaired). The RCRA Call Center is open Monday—Friday, 9 am to 4 pm, Eastern Standard Time. For more information on specific aspects of this withdrawal notice, contact Mr. Frank Behan at 703-308-8476, behan.frank@epa.gov, or write him at the Office of Solid Waste, 5302W, U.S. EPA, Ariel Rios Building, 1200 Pennsylvania Avenue, NW, Washington, D.C. 20460.

SUPPLEMENTARY INFORMATION: On July 3, 2001, EPA published a direct final rule (66 FR 35087) and a notice of proposed rulemaking (66 FR 35124) promulgating and proposing amendments to provisions dealing largely with rules affecting implementation of the National Emission Standards for Hazardous Waste Combustors (subpart EEE of Part 63). EPA indicated that it was promulgating these amendments as direct final rules because it believed the amendments to be non-controversial. See 66 FR at 35088. However, the Agency further stated that if we received adverse comment by August 17, 2001 on one or more distinct provisions of the direct final rule, we would publish a timely withdrawal of those distinct provisions in the Federal Register, and deal with those provisions as proposed rules. We subsequently received adverse comment on four of the provisions: the amendments to § 63.1201(a) and § 63.1206(b)(13)(i) (alternative hydrocarbon monitoring location for short cement kilns burning hazardous waste at locations other than the “hot” end of the kiln); the amendments to § 63.1206(b)(6)(i), § 63.1206(b)(7)(i)(B), § 63.1206(b)(7)(ii)(B), and § 63.1207(c)(2)(i) (use of destruction and removal efficiency data in lieu of testing); the amendments to § 63.1206(c)(7)(ii) (deletion of baghouse inspection requirements); and amendments to § 63.1207(f)(1)(ii) (feedstream analysis for organic hazardous air pollutants). We will address these comments in the future in a final action based on the proposed rule for these four provisions. We will not institute a second comment period on this action. The nine provisions for which we did not receive adverse comment will become effective on October 16, 2001 as provided in the July 3, 2001 direct final rule.

List of Subjects in 40 CFR Part 63

Environmental protection, Air pollution control, Hazardous substances, Reporting and recordkeeping requirements.

Dated: October 9, 2001.
Christine Todd Whitman,
Administrator.

PART 63—[AMENDED]

§§ 63.1201, 63.1206, and 63.1207 [Amended]

Accordingly, the amendments to § 63.1206(b)(6)(i), § 63.1206(b)(7)(i)(B), § 63.1206(b)(7)(ii)(B), § 63.1206(b)(13)(i), § 63.1206(c)(7)(ii), § 63.1207(c)(2)(i), § 63.1207(f)(1)(ii), and to add the definition of “Preheater tower combustion gas monitoring location” to § 63.1201(a) are withdrawn as of October 15, 2001.

[FR Doc. 01-25865 Filed 10-12-01; 8:45 am]

BILLING CODE 6560-50-P